DEPARTMENT OF LABOR

Employment and Training Administration

[TA-W-40,474, TA-W-40,474A, and TA-W-40,474B]

Acme Steel Company, Riverdale, IL; Acme Steel Company, Acme Coke Plant, Chicago, IL; Acme Steel Company, Acme Furnace Plant, Chicago, IL; Notice of Termination of Investigation

Pursuant to section 221 of the Trade Act of 1974, an investigation was initiated on December 21, 2001 in response to a worker petition which was filed on behalf of workers at Acme Steel Company, Riverdale, Illinois (TA-W-40,474); Acme Steel Company, Acme Coke Plant (TA-W-40,474B), Chicago, Illinois; and Acme Steel Company, Furnace Plant, Chicago, Illinois (TA-W-40,474B).

An active certification covering the petitioning group of workers is in effect (TA-W-40,431, TA-W-40,431A, TA-W-40,431B). Consequently, further investigation in this case would serve no purpose, and the investigation has been terminated.

Signed in Washington, DC this 11th day of February, 2002.
Linda G. Poole,
Certifying Officer, Division of Trade Adjustment Assistance.

[FR Doc. 02-4729 Filed 2-27-02; 8:45 am]

BILLING CODE 4510-30-M